DEPARTMENT OF VETERANS AFFAIRS

Notice that Certain VA Homeless Providers Grants Will Be Terminated

AGENCY: VA Homeless Providers Grant and Per Diem (GPD) Program, Veterans Health Administration (VHA), Department of Veterans Affairs (VA).

ACTION: Notice that certain VA homeless providers grants will be terminated.

SUMMARY: VA is announcing that all per diem funding for grants awarded during fiscal year (FY) 1994 through FY 2016 under VA's Homeless Providers GPD will be terminated, in accordance with the grant award agreements. This does not apply to special need grants and Transition in Place (TIP) grants.

Prior to September 30, 2017, VA will offer the opportunity to compete for new grants through a Notice of Funding Availability (NOFA) to grantees whose transitional housing and service center grants will be terminated. This will allow the Department and grantees to refocus programs and resources to better serve the homeless Veteran population.

DATES: December 19, 2016.

ADDRESSES: VA Homeless Providers Grant and Per Diem Field Office, 10770 North 46th Street Suite C-200, Tampa, Florida 33617

FOR FURTHER INFORMATION CONTACT: Mr. Jeffery L. Quarles, Director, VA Homeless Providers Grant and Per Diem Program, Department of Veterans Affairs, 10770 North 46th Street Suite C-200, Tampa, Florida 33617; (toll-free) (877) 332-0334.

SUPPLEMENTARY INFORMATION: This Notice announces that VA will terminate per diem payments to grantees for grants that were awarded under VA's Homeless Providers GPD Program from FY 1994 through FY 2016 in accordance with the grant award agreements (See End Date Adjustments). This does not apply to special need and TIP grants, as these grants were awarded with expiration dates. Additionally, VA will offer an opportunity to apply for new grants to these transitional housing and service center grantees under a new NOFA.

Rationale: Funding for the per diem component of the VA Homeless Providers Program is authorized by 38 U.S.C. 2013(7). Each FY the program's funding may be replenished up to a level authorized and appropriated by Congress. VHA must decide the level of funding to actually dedicate to this program from the available appropriated resources up to the 38 U.S.C. 2013(7) authorized amount. In the past, as funding was available, in order to facilitate a continued needed resource without possible interruption and encourage new applicants to serve homeless Veterans, VHA chose to authorize per diem for those operational grantees that met the requirements of 38 CFR 61.80 as verified by an annual inspection. Other benefits to VA and the community included defrayed costs and stability of housing resources by not subjecting the grantees to the GPD application process each fiscal year.

Many current grants were written when the homeless Veteran experience was far different than it is now (almost 20 years ago in some cases). These grants focused on services, length of stays, and end goals different from the current strategies in place to combat Veteran homelessness. Despite VA having allowed changes of scope to the grants, these changes were not able to keep pace with the rapidly changing homeless Veteran experience. VA now has at its disposal additional homeless programs that were not in existence previously and is working in conjunction with other Federal agencies to address homelessness among Veterans. While VA believes GPD will continue to have a significant presence in the cadre of homeless programs, the allocation of these grants needs to be updated to reflect the documented current need as well as to increase the flexibility to adapt to future needs.

Benefits of Termination: Through this termination and new application process, VA will be able to align awards and resources with the specific VA homeless goals, and Office of Management and Budget (OMB) requirements in 2 CFR part 200. This also provides the opportunity for current grantees to align their services, treatment approach, and housing stock, while taking into account currently available resources and needs within their communities. By making the awards performance-based, VA will increase accountability and flexibility for both VA and grantees to adapt to changing environments.

Effects of Termination: All grantees must submit a close-out Federal Financial Report (SF425) within 90 calendar days after the end date of the period of performance, pursuant to 2 CFR 200.343. Any per diem over payments discovered will be recovered per VA financial policy.

OMB has, pursuant to its authority under 2 CFR 200.102, approved VA's request to grant a class exception to the real property provisions of 2 CFR 200.311(c) to recipients that would be subject to those requirements based on the planned restructuring of the VA Homeless Providers GPD Program.

The exception is limited to current capital grantees that choose to reapply under the separate FY 2017 NOFA and are unsuccessful, and those current capital grantees that are successful, but do not receive subsequent option year funding. These grantees will not be subject to the requirements of 38 CFR 61.67 or the real property disposition requirements of 2 CFR 200.311(c).

Current capital grantees that choose not to reapply in response to this NOFA, or who apply and do not meet the threshold requirements for scoring as outlined in the NOFA and regulation, will be subject to the recapture requirements of 38 CFR 61.67 and, if applicable, the real property disposition requirements of 2 CFR 200.311(c).

Proposed Termination Dates for Grantees: If an existing grantee does not apply for a GPD grant under the new NOFA, VA would like to terminate the applicable grant agreement on September 30, 2017. If an existing grantee does apply and is successful, VA would like to terminate the applicable grant agreement on September 30, 2017. If your agency applies and is not selected, in the interest of transitioning Veterans remaining in those non-selected programs, VA would like to terminate the grant payments no later than December 31, 2017.

Authority: 38 U.S.C. 2011, 2012, 2013, 2061, and in regulation at 2 CFR 200.311(c), 2 CFR 200.343, 38 CFR part 61.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on December 19, 2016, for publication.

Dated: December 19, 2016.
Jeffrey Martin,
Office Program Manager, Office of Regulation Policy & Management, Office of the Secretary, Department of Veterans Affairs.

[FR Doc. 2016-30958 Filed 12-22-16; 8:45 am]

BILLING CODE 8320-01-P